DEPARTMENT OF JUSTICE

Antitrust Division

Notice Pursuant to the National Cooperative Research and Production Act of 1993—International Electronics Manufacturing Initiative

Notice is hereby given that, on April 26, 2018, pursuant to Section 6(a) of the National Cooperative Research and Production Act of 1993, 15 U.S.C. 4301 et seq. (“the Act”), International Electronics Manufacturing Initiative (“iNEMI”) has filed written notifications simultaneously with the Attorney General and the Federal Trade Commission disclosing changes in its membership. The notifications were filed for the purpose of extending the Act's provisions limiting the recovery of antitrust plaintiffs to actual damages under specified circumstances. Specifically, Autodesk, Inc., San Rafael, CA; HP, Inc., Houston, TX; Kulicke & Soffa Industries, Inc., SINGAPORE; KYZEN Corporation, Nashville, TN; Momentum Technologies, Inc., Dallas, TX; and The Comet Group, Wunnewil-Flamatt, SWITZERLAND, have been added as parties to this venture.

Also, Delphi Corporation, Troy, MI; Exponent Failure Analysis Associates, Inc., Menlo Park, CA; Henkel, Düsseldorf, GERMANY; METech Recycling, Clinton, MA; Oak-Mitsui, Camden, SC; and Unitec Semiconductors, Veneza-Ribeirao das Neves, BRAZIL, have withdrawn as parties to this venture.

In addition, Dow Electronic Materials and Dupont Electronics & Communications have merged to become DowDuPont Electronics & Imaging, Wilmington, DE.

No other changes have been made in either the membership or planned activity of the group research project. Membership in this group research project remains open, and iNEMI intends to file additional written notifications disclosing all changes in membership.

On June 6, 1996, iNEMI filed its original notification pursuant to Section 6(a) of the Act. The Department of Justice published a notice in the Federal Register pursuant to Section 6(b) of the Act on June 28, 1996 (61 FR 33774).

The last notification was filed with the Department on April 26, 2017. A notice was published in the Federal Register pursuant to Section 6(b) of the Act on May 22, 2017 (82 FR 23298).

Patricia A. Brink,
Director of Civil Enforcement, Antitrust Division.

[FR Doc. 2018-10700 Filed 5-18-18; 8:45 am]

BILLING CODE 4410-11-P